DEPARTMENT OF LABOR

Employment and Training Administration

[TA-W-55,894]

Delta Mills, Plant 3; Wallace, SC; Notice of Termination of Investigation

Pursuant to Section 221 of the Trade Act of 1974, an investigation was initiated on November 1, 2004 in response to a petition filed on behalf of workers at Delta Mills, Plant 3, Wallace, South Carolina.

The petitioner has requested that the petition be withdrawn. Consequently, further investigation in this case would serve no purpose, and the investigation has been terminated.

Signed in Washington, DC, this 8th day of November, 2004.
Elliott S. Kushner,
Certifying Officer, Division of Trade Adjustment Assistance.

[FR Doc. E4-3295 Filed 11-22-04; 8:45 am]

BILLING CODE 4510-30-P